POSTAL REGULATORY COMMISSION

[Docket No. CP2022-34; Order No. 6545]

Inbound Competitive Multi-Service Agreements With Foreign Postal Operators

AGENCY: Postal Regulatory Commission.

ACTION: Notice.

SUMMARY: The Commission is recognizing a recent Postal Service filing of a change in certain modifications to the Competitive Multi-Product Agreements with Foreign Postal Operators 1 products to be effective July 1, 2023. This notice informs the public of the filing, invites public comment, and takes other administrative steps.

DATES: Comments are due: June 23, 2023.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Commission Action

III. Ordering Paragraphs

I. Introduction

On June 15, 2023, the Postal Service filed a notice with the Commission pursuant to 39 CFR 3035.105 and Order No. 546, giving notice of: (1) certain modifications to the competitive multi-product “Interconnect Renumeration Agreement USPS and Specified Postal Operators II” (IRA-USPS II Agreement); and (2) two accessions to the IRA-USPS II Agreement.¹ The IRA-USPS II Agreement is included within the Competitive Multi-Service Agreements with Foreign Postal Operators 1 product.²

¹ Notice of United States Postal Service of Modification to Inbound Competitive Multi-Service IRA-USPS II Agreement, June 15, 2023 (Notice). Docket Nos. MC2010-34 and CP2010-95, Order Adding Inbound Competitive Multi-Service Agreements with Foreign Postal Operators 1 to the Competitive Product List and Approving Included Agreement, September 29, 2010 (Order No. 546).

² Order Approving Additional Inbound Competitive Multi-Service Agreement with Foreign Postal Operators, December 23, 2021, at 5-7 (Order No. 6074).

On December 23, 2021, the Commission approved the inclusion of the IRA-USPS II Agreement in the Inbound Competitive Multi-Service Agreements with Foreign Postal Operators 1 product as well as the initial inbound rates proposed by the Postal Service. Order No. 6074 at 5-7. Pursuant to the IRA-USPS II Agreement, any party to the IRA-USPS II Agreement can change or modify the agreement at any time and enter into separate bilateral or multilateral agreements with terms that differ from the IRA-USPS II Agreement. Notice at 2. The modifications proposed in the Notice are intended to take effect on July 1, 2023. Id. The Postal Service avers that it has agreed to the modifications with three parties and expects additional parties will accede to it in the future. Id. The Postal Service indicated its intent to update the docket as additional parties accede to the modifications. Id.

Specifically, the modifications revise: (1) the termination provisions and references to quality of service incentives; (2) the list of annexes with references to quality of service incentives; (3) the definitions in an annex; (4) the date of submission for certain rates to the International Post Corporation; (5) the structure of the quality of services incentives and related references; and (6) the accounting processes related to quality of service incentives and related references. Id. at 2-3. The Postal Service also noted that two additional Foreign Postal Operators (FPOs) acceded to the IRA-USPS II Agreement. Id. at 3.

Concurrent with the Notice, the Postal Service has filed: (1) the agreement to modify the IRA-USPS II Agreement and the modified version of the IRA-USPS II Agreement; (2) a certified statement concerning the rates under the modified IRA-USPS II Agreement as required by 39 CFR 3035.105(c)(2); (3) the Deed of Accession executed by the additional FPOs; and (4) supporting financial documentation. Id. at 4, Attachments 1-4. The Postal Service also requests that the Commission continue to treat materials filed as non-public pursuant to its Application for Non-Public Treatment, which was filed with the Postal Service's initial notice and is incorporated by reference. Id. at 4.

The Commission shall review the proposed IRA-USPS II Agreement modification to ensure that the Inbound Competitive Multi-Service Agreements with Foreign Postal Operators 1 product continues to cover its attributable costs, does not cause Market Dominant products to subsidize Competitive products as a whole, and contributes to the Postal Service's institutional costs. 39 U.S.C. 3633(a); 39 CFR 3035.105 and 3035.107.

II. Commission Action

The Commission seeks public comments from interested persons on whether the Postal Service's Notice concerning the IRA-USPS II Agreement as modified is consistent with 39 U.S.C. 3633 and 39 CFR 3036.105. Comments are due by June 23, 2023.

The Notice and related filings are available on the Commission's website (http://www.prc.gov). The Commission encourages interested persons to review the Notice for further details.

The Commission appoints Christopher C. Mohr to serve as the Public Representative in this proceeding.

III. Ordering Paragraphs

It is ordered:

1. The Commission seeks public comment from interested persons on whether the Notice of the United States Postal Service of Modification to Inbound Competitive Multi-Service IRA-USPS II Agreement, filed June 15, 2023, is consistent with 39 U.S.C. 3633 and 39 CFR 3035.105.

2. Pursuant to 39 U.S.C. 505, Christopher C. Mohr is appointed to serve as an officer of the Commission (Public Representative) to represent the interests of the general public in this proceeding.

3. Comments by interested persons are due by June 23, 2023.

4. The Secretary shall arrange for publication of this order in the Federal Register.

By the Commission.
Erica A. Barker,
Secretary.

[FR Doc. 2023-13332 Filed 6-22-23; 8:45 am]

BILLING CODE 7710-FW-P